SECURITIES AND EXCHANGE COMMISSION

[Release No. 35-27230]

Filings Under the Public Utility Holding Company Act of 1935, as Amended (“Act”)

September 15, 2000.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by October 10, 2000, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After October 10, 2000, the application(s) and/or declaration(s), as filed or as amended, may be granted and/or permitted to become effective.

Alliant Energy Corporation, et al. (70-9317)

Alliant Energy Corporation (“Alliant Energy”) (formerly, Interstate Energy Corporation), a registered holding company, and its service company subsidiary, Alliant Energy Corporate Services, Inc. (“Services”), both located at 222 West Washington Avenue, Madison, Wisconsin 53703; and two of its public utility subsidiary companies, IES Utilities, Inc. (“IES”), Alliant Energy Tower, Cedar Rapids, Iowa 52401 and Interstate Power Company (“IPC”), 1000 Main Street S.E., P.O. Box 769, Dubuque, Iowa 52004 (together, “Applicants”), have filed a post-effective amendment under sections 6(a), 7, 9(a), 10, 12(b), 32 and 33 of the Act and rules 43, 45, and 53 under the Act to their application-declaration previously filed under the Act.

By order dated December 18, 1998 (HCAR No. 26956) (“Financing Order”), the Commission authorized, among other things, Alliant Energy to issue and sell from time to time through December 31, 2000, commercial paper and/or notes at market based rates (“Short-Term Debt”) in an aggregate principal amount at any time outstanding of up to $750 million. The Financing Order authorized Alliant Energy to use $450 million of the proceeds of the Short-Term Debt to fund its utility subsidiary money pool (“Utility Money Pool”), and to use up to $300 million of the remaining Short-Term Debt to fund investments in “exempt wholesale generators” (“EWGs”) and “foreign utility companies” (“FUCOs”), as those terms are defined in sections 32 and 33 of the Act. In addition, the Financing Order authorized Alliant Energy's operating company subsidiaries, IES and IPC, to make borrowings under and invest surplus funds in the Utility Money Pool.¹ Finally, the Financing Order authorized Alliant Energy to enter into guarantees, obtain letters of credit, enter into expense agreements or otherwise provide credit support (“Guarantees”) for its nonutility subsidiaries in an aggregate amount not to exceed $600 million outstanding at any one time.²

¹ The Financing Order limited Utility Money Pool borrowing to annual outstanding amounts of $150 million for IES and $72 million for IPC.

² Alliant Energy Resources, Inc. (“AER”), a subsidiary nonutility holding company of Alliant Energy, maintains a separate commercial paper program and bank credit facilities totaling $600 million to fund a separate nonutility money pool (“Nonutility Money Pool”) maintained for the benefit of Alliant Energy's direct and indirect nonutility subsidiaries other than Services. As noted in the Financing Order, AER's financing arrangements are exempt from Commission review under rule 52(b). Similarly, borrowings by members of the Nonutility Money Pool also are exempt under rule 52(b).

The Applicants now request that the Commission modify certain aspects of the Financing Order and extend the authorization period from December 31, 2000 to June 30, 2004 (“Authorization Period”). Specifically, Alliant Energy proposes to increase from $750 million to $1 billion the aggregate amount of this type of Short-Term Debt it may have outstanding at any one time. Further, Alliant Energy requests the Commission to authorize the use of proceeds from the Short-Term Debt to fund the Utility Money Pool in an aggregate principal amount outstanding at any one time that will not exceed $475 million in 2001 and $525 million for the remainder of the Authorization Period. Alliant Energy also requests that the Commission eliminate the separate $300 million limitation on the use of Short-Term Debt proceeds to make interim investments in EWGs and FUCOs.³ Finally, IES and IPC propose, through the Authorization Period, to borrow from Alliant Energy and each other, and to lend to each other, all under the Utility Money Pool, in outstanding principal amounts of up to $150 million for IES and $100 million for IPC.⁴

³ Alliant Energy represents that all EWG and FUCO investments will comply with rule 53(a) under the Act.

⁴ Alliant Energy's other utility subsidiary, Wisconsin Power & Light Company and Services are members of the Utility Money Pool, but their borrowings are exempt from Commission review under rules 52 (a) and (b), respectively.

The Applicants state that all other terms, conditions, limitations and reporting obligations contained in the Financing Order will apply to the proposed transactions. Services will continue to administer the Utility and Nonutility Money Pools under the existing terms of the money pool agreements, as previously approved by the Commission.

For the Commission by the Division of Investment Management, pursuant to delegated authority.
Margaret H. McFarland,
Deputy Secretary.

[FR Doc. 00-24349 Filed 9-21-00; 8:45 am]

BILLING CODE 8010-01-M